DEPARTMENT OF THE INTERIOR

National Park Service

[NPS-WASO-NRNHL-21533; PPWOCRADI0, PCU00RP14.R50000]

National Register of Historic Places; Notification of Pending Nominations and Related Actions

AGENCY: National Park Service, Interior.

ACTION: Notice.

SUMMARY: The National Park Service is soliciting comments on the significance of properties nominated before July 9, 2016, for listing or related actions in the National Register of Historic Places.

DATES: Comments should be submitted by August 10, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before July 9, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

DISTRICT OF COLUMBIA

District of Columbia

Denrike Building, 1010 Vermont Ave. NW., Washington, 16000542

HAWAII

Hawaii County

Seishiro Hasegawa Ltd. Store Building, (Honakaa Town, Hawaii MPS) 45-3787 Mamane St., Honoka'a, 16000543

MASSACHUSETTS

Essex County

Soldiers and Sailors Memorial Building, 363 Main St., West Newberry, 16000544

MISSOURI

Jackson County

Spofford Home for Children, 5501 Cleveland Ave., Kansas City, 16000545

Jasper County

Buchanan, Lucius P., House, 3708 E. University Pkwy., Joplin, 16000546

St. Louis Independent city

Mansion House Center Historic District, 200-444 N. 4th St., St. Louis (Independent City), 16000547

Midwest Terminal Building, 700-720 N. Tucker Blvd., St. Louis (Independent City), 16000548

NEW MEXICO

Bernalillo County

Zimmerman Library, (Buildings Designed by John Gaw Meem MPS) 1900 Roma Ave. NE., Albuquerque, 16000549

Lincoln County

Carrizozo Commercial Historic District, Roughly bounded by Brick & D Aves., 11th & 13th Sts., Carrizozo, 16000550

NEW YORK

Bronx County

Fort Independence Historic District, Cannon Place, Orloff & Sedgewick Aves., Giles Place, Kingsbridge, 16000551

Dutchess County

Haxtun—Tower House, 4 Baker Rd., Hopewell Junction, 16000552

Lewis County

Old Lowville Cemetery, 5515 Jackson & 5575 River Sts., Lowville, 16000553

Monroe County

Conant, Austin R., House, 30 West St., Fairport, 16000554

Webster Grange No. 436, 58 E. Main St., Webster, 16000555

St. Lawrence County

Hepburn Library of Lisbon, 6899 Lisbon Center State Rd., Lisbon, 16000556

Suffolk County

Benner—Foos—Ceparano Estate, 99 Van Brunt Manor & 6 Osprey Ln., Poquott, 16000557

Ulster County

Parker, Alton B., Estate, 14 Lamont Landing Rd., Esopus, 16000558

Wyoming County

Woodward, Orator F., Cottage, 3931 Thompson Ave., Silver Lake, 16000559

NORTH CAROLINA

Gaston County

Cherryville Downtown Historic District, Main, Mountain, 1st, S. Jacob, S. Oak & N. Mulberry Sts., Cherryville, 16000560

Nash County

Burt—Arrington House, 784 W. Hilliardston Rd., Hilliardston, 16000561

Scotland County

St. Andrews Presbyterian College, 1700 Dogwood Mile, Laurinburg, 16000562

RHODE ISLAND

Providence County

Second Battle of Nipsachuck Battlefield, Address Restricted, North Smithfield, 16000563

WISCONSIN

Door County

GRAPE SHOT (schooner) Shipwreck, (Great Lakes Shipwreck Sites of Wisconsin MPS) .2 mi. NW. of USCCG Station on Plum Island, Washington, 16000564

Manitowoc County

S.C. BALDWIN Shipwreck (barge), (Great Lakes Shipwreck Sites of Wisconsin MPS) 2.3 mi. SSE. of Rawley Point Lighthouse in L. Michigan, Two Rivers, 16000565

Racine County

Orchard Street Historic District, Generally bounded by Haven & Lindermann Aves., Russet & Kentuckey Sts., Racine, 16000566

Rock County

Greenman, Reynolds and Lois, House, 12 Merchant Row, Milton, 16000567

Owen, John and Margaret, House, 33 2nd St., Milton, 16000568

Seventh Day Baptist Church, 720 E. Madison Ave., Milton, 16000569

Authority: 60.13 of 36 CFR part 60.

Dated: July 13, 2016.
J. Paul Loether,
Chief, National Register of Historic Places/National Historic Landmarks Program.

[FR Doc. 2016-17594 Filed 7-25-16; 8:45 am]

BILLING CODE 4312-51-P